U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on January 23, 2020 on “China's Quest for Capital: Motivations, Methods, and Implications.”

DATES: The hearing is scheduled for Thursday, January 23, 2020 at 9:30 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington, DC 20001; telephone: 202-624-1496, or via email at lreagan@uscc.gov. Reservations are not required to attend the hearing.

ADA Accessibility: For questions about the accessibility of the event or to request an accommodation, please contact Leslie Tisdale Reagan at 202-624-1496, or via email at lreagan@uscc.gov. Requests for an accommodation should be made as soon as possible, and at least five business days prior to the event.

SUPPLEMENTARY INFORMATION:

Background: This is the first public hearing the Commission will hold during its 2020 report cycle. The hearing will examine the internal dynamics of China's financial system; China's increasingly rapid integration into global financial markets; and the risks this poses to U.S. investors and savers. Specifically, Panel 1 will assess China's overall capital requirements and systemic challenges. Panel 2 will identify and evaluate the tools used by various actors in the Chinese economy to raise capital. Panel 3 will assess the exposure of U.S. investors and savers to the growing integration of Chinese securities into U.S. and global capital markets. The hearing will be co-chaired by Chairman Robin Cleveland and Commissioner Michael Wessel. Any interested party may file a written statement by January 23, 2020 by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 6, 2020.
Daniel W. Peck,
Executive Director, U.S.-China Economic and Security Review Commission.

[FR Doc. 2020-00237 Filed 1-9-20; 8:45 am]

BILLING CODE 1137-00-P